DEPARTMENT OF ENERGY

Federal Energy Regulatory Commission

[Docket No. ER99-1477-001, et al.]

UAE Lowell Power LLC, et al.; Electric Rate and Corporate Regulation Filings

August 22, 2002.

The following filings have been made with the Commission. The filings are listed in ascending order within each docket classification.

1. UAE Lowell Power LLC

[Docket No. ER99-1477-001]

Take notice that on August 16, 2002, UAE Lowell Power LLC tendered for filing their triennial market power updates in support of authorization to engage in wholesale sales of electric energy at market-based rates.

Comment Date: September 6, 2002

2. Neptune Regional Transmission System, LLC

[Docket No. ER01-2099-002]

Take notice that on August 13, 2002, Neptune Regional Transmission System, LLC (Neptune), filed with the Federal Energy Regulatory Commission (Commission), a motion to modify certain provisions of the Commission's orders in the proceeding in Docket No. ER01-2099-000: Neptune Regional Transmission System, LLC, 96 FERC ¶ 61,147 (2001), order on reh'g, 96 FERC ¶ 61,326 (2001), order on clarification, 98 FERC ¶ 61,140 (2002).

Neptune requests that the Commission amend its prior orders to permit Neptune to negotiate to sell long-term Transmission Scheduling Rights (TSRs) outside of an open season process, that the Commission permit affiliate participation in the initial allocation or sale of TSRs as well as in the secondary market for TSRs, and that the Commission clarify that the deadline for recalling TSRs lost in the “use it or lose it” process can be identical to the deadline under the Standard Market Design tariff for changing transmission schedules.

Neptune claims that the open season process is impractical and unnecessary to achieving Commission goals, that there are no market power concerns present with respect to allowing affiliate participation in the initial allocation or sale of TSRs, that the open season requirement and affiliate restrictions are inconsistent with the Commission's Standard Market Design, and that TSR holders should be allowed to exercise their recall rights within the same time-frames as a market participant would be allowed to change their day-ahead schedules according to the Standard Market Design Tariff.

Comment Date: September 5, 2002

3. Boston Edison Company

[Docket No. ER02-170-004]

Take notice that on August 16, 2002, Boston Edison Company (BECo), in compliance with the Federal Energy Regulatory Commission's (Commission) Order dated March 15, 2002 and in accordance with its own letter to the Commission dated July 18, 2002 tendered a further compliance filing relative to its Rate Schedule No. 167 for service to the Town of Wellesley, Massachusetts. The tendered compliance filing is intended to replace BECo's prior compliance filing dated July 9, 2002. BECo requests and May 31, 2002 effective date.

Copies of the filing were served upon the Town of Wellesley, Massachusetts, and the Massachusetts Department of Telecommunications and Energy.

Comment Date: September 6, 2002

4. American Electric Power Service Corporation

[Docket No. ER02-711-003]

Take notice that on August 19, 2002, the American Electric Power Service Corporation (AEPSC) tendered for filing an Amended Interconnection and Parallel Operation Agreement between Southwestern Electric Power Company (SWEPCO), Entergy Power Ventures, L.P., Northeast Texas Electric Cooperative, Inc., and EN Services, L.P., in compliance with the Order Conditionally Accepting for Filing Interconnection Agreement, as Modified, and Directing Compliance Filing, Dockets Nos. ER02-711-000, 001, issued July 19, 2002. The agreement is pursuant to the AEP Companies' Open Access Transmission Service Tariff (OATT) that has been designated as the Operating Companies of the American Electric Power System FERC Electric Tariff Second Revised Volume No. 6, effective June 15, 2000.

SWEPCO requests an effective date of March 5, 2002. Copies of SWEPCO's filing have been served upon Entergy Power ventures, LP, Northeast Texas Electric Cooperative, Inc., EN Services, L.P. and the Public Utility Commission of Texas.

Comment Date: September 9, 2002

5. Nevada Power Company

[Docket No. ER02-1913-002]

Take notice that on August 16, 2002, Nevada Power Company (Nevada Power) tendered for filing its compliance filing making the changes to the unexecuted Interconnection and Operation Agreement between Nevada Power and Gen West, LLC required by the Federal Energy Regulatory Commission's July 19, 2002 Order in this docket.

Comment Date: September 6, 2002

6. Virginia Electric and Power Company

[Docket No. ER02-2437-001]

Take notice that on August 19, 2002, Virginia Electric and Power Company d/b/a/ Dominion Virginia Power supplemented its initial July 29, 2002 filing in this matter, filing revised tariff sheets to revise a job title set forth in Attachment N to Virginia Electric and Power Company's FERC Electric Tariff, Second Revised Volume No. 5 (OATT) addressing Dominion Virginia Power's Generator Interconnection Procedures.

Dominion Virginia Power requests that the revised tariff sheets become effective on August 20, 2002.

Comment Date: September 9, 2002

7. Niagara Mohawk Power Corporation

[Docket No. OA96-194-010]

Take notice that on August 15, 2002, Niagara Mohawk Power Corporation (Niagara Mohawk) tendered for filing its Second Refund Report in the above-referenced proceeding in conformance with the requirements of the July 2, 2002 Order of the Federal Energy Regulatory Commission (Commission) in this proceeding.

Copies of the filing have been served on all parties listed on the official service list maintained by the Commission for this proceeding.

Comment Date: September 5, 2002

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-22156 Filed 8-28-02; 8:45 am]

BILLING CODE 6717-01-P